OFFICE OF THE UNITED STATES TRADE REPRESENTATIVE

Generalized System of Preferences (GSP): Notice Extending Deadline for Submission of Petitions for the 2010 Annual GSP Product Review

AGENCY: Office of the United States Trade Representative.

ACTION: Notice of extension of deadline for public petitions.

SUMMARY: On July 15, 2010, a public notice was published in the Federal Register on pages 41274-41276 requesting petitions by August 3, 2010, to modify the list of products that are eligible for duty-free treatment under the Generalized System of Preferences (GSP) program. This notice extends the deadline for submission of petitions for the 2010 Annual GSP Product Review to 5 p.m., Friday, August 13, 2010. Notification of which petitions are accepted for the 2010 Annual GSP Review and of other relevant dates will be announced in the Federal Register at a later date.

FOR FURTHER INFORMATION CONTACT: Tameka Cooper, GSP Program, Office of the United States Trade Representative, 1724 F Street, NW., Room 601, Washington, DC 20508. The telephone number is (202) 395-6971, the fax number is (202) 395-2961, and the e-mail address is Tameka_Cooper@ustr.eop.gov.

Public versions of the petitions submitted will be available for public viewing in docket USTR-2010-0017 at http://www.regulations.gov upon completion of processing and no later than approximately two weeks after the extended August 13, 2010 due date.

Seth Vaughn,
Director, GSP Program; Chairman, GSP Subcommittee of the Trade Policy Staff Committee; Office of the U.S. Trade Representative.

[FR Doc. 2010-19980 Filed 8-13-10; 8:45 am]

BILLING CODE 3190-W0-P